DEPARTMENT OF TRANSPORTATION

Federal Aviation Administration

14 CFR Part 39

[Docket No. 2001-NM-387-AD; Amendment 39-14696; AD 2006-15-15]

RIN 2120-AA64

Airworthiness Directives; McDonnell Douglas Model DC-9-81 (MD-81), DC-9-82 (MD-82), DC-9-83 (MD-83), DC-9-87 (MD-87), and MD-88 Airplanes

AGENCY: Federal Aviation Administration, DOT.

ACTION: Final rule.

SUMMARY: This amendment adopts a new airworthiness directive (AD), applicable to certain McDonnell Douglas airplane models, that requires a one-time inspection for chafing or signs of arcing of the wire bundle for the auxiliary hydraulic pump, and other specified and corrective actions, as applicable. This AD also requires that, for certain airplanes, installation of additional protective sleeving on the upper portion of the auxiliary hydraulic pump wire assembly. This AD results from reports of shorted wires and evidence of arcing on the power cables of the auxiliary hydraulic pump, as well a fuel system reviews conducted by the manufacturer. We are issuing this AD to prevent shorted wires or arcing at the auxiliary hydraulic pump, which could result in loss of auxiliary hydraulic power, or a fire in the wheel well of the airplane. The actions specified by this AD are also intended to reduce the potential of an ignition source adjacent to the fuel tanks, which, in combination with flammable fuel vapors, could result in a fuel tank explosion and consequent loss of the airplane.

DATES: Effective September 5, 2006.

The incorporation by reference of a certain publication listed in the regulations is approved by the Director of the Federal Register as of September 5, 2006.

ADDRESSES: The service information referenced in this AD may be obtained from Boeing Commercial Airplanes, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-81 (MD-81), DC-9-82 (MD-82), DC-9-83 (MD-83), DC-9-87 (MD-87), and MD-88 airplanes, was published as a second supplemental notice of proposed rulemaking (NPRM) in the Federal Register on March 14, 2006 (71 FR 13050). That action proposed to require a one-time inspection for chafing or signs of arcing of the wire bundle for the auxiliary hydraulic pump, and other specified and corrective actions, as applicable. That action also proposed to require, for certain airplanes, installation of additional protective sleeving on the upper portion of the auxiliary hydraulic pump wire assembly.

Comments

We provided the public the opportunity to participate in the development of this AD. No comments have been received on the second supplemental NPRM or on the determination of the cost to the public.

Explanation of Changes to the Second Supplemental NPRM

In paragraph (a) of the second supplemental NPRM we inadvertently referred to Configurations 1 through 3 when we should have referred to Configurations 1 through 4. It was our intent that the requirements of paragraph (a) apply to Configurations 1 through 4 airplanes, as described in the referenced Boeing Alert Service Bulletin MD80-29A070, Revision 1, dated July 28, 2005. As described in the preamble of the second supplemental NPRM, we added paragraph (c) to this AD to give credit for actions done before the effective date of this AD in accordance with the original issue of Boeing Alert Service Bulletin MD80-29A070, dated August 3, 2004, except that the additional requirements of paragraph (b) of this AD must be done on airplanes in Configuration 4, as defined in Boeing Alert Service Bulletin MD80-29A070, Revision 1. Therefore, we have revised paragraph (a) of this AD accordingly. We also have clarified the Cost Impact section of this AD in regard to the airplane configurations.

Conclusion

We have carefully reviewed the available data and determined that air safety and the public interest require adopting the AD with the change described previously. We have determined that this change will neither increase the economic burden on any operator nor increase the scope of the AD.

Cost Impact

There are approximately 1,063 airplanes of the affected design in the worldwide fleet. We estimate that 732 airplanes of U.S. registry (i.e., airplane Configurations 1 through 4; we do not know how many airplanes are in Configuration 4) will be affected by this AD, that it will take up to 12 work hours per airplane to accomplish the required inspection and other specified actions, and that the average labor rate is $65 per work hour. Required parts will cost up to $524 per airplane. Based on these figures, the cost impact of this AD on U.S. operators is estimated to be up to $954,528, or up to $1,304 per airplane.

For airplanes in Configuration 4, as defined in Boeing Alert Service Bulletin MD80-29A070, Revision 1, it will take approximately 2 work hours to accomplish the required additional wiring protection, at an average labor rate of $65 per work hour. Required parts will cost approximately $40 per airplane. Based on these figures, the cost impact of this action on an affected airplane is estimated to be $170 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-15-15 McDonnell Douglas: Amendment 39-14696. Docket 2001-NM-387-AD.

Applicability: Model DC-9-81 (MD-81), DC-9-82 (MD-82), DC-9-83 (MD-83), DC-9-87 (MD-87), and MD-88 airplanes; certificated in any category; as identified in Boeing Alert Service Bulletin MD80-29A070, Revision 1, dated July 28, 2005.

Compliance: Required as indicated, unless accomplished previously.

To prevent shorted wires or arcing at the auxiliary hydraulic pump, which could result in loss of auxiliary hydraulic power, or a fire in the wheel well of the airplane; and to reduce the potential of an ignition source adjacent to the fuel tanks, which, in combination with flammable fuel vapors, could result in a fuel tank explosion and consequent loss of the airplane; accomplish the following:

One-Time Inspection

(a) For airplanes in Configurations 1 through 4, as defined in Boeing Alert Service Bulletin MD80-29A070, Revision 1, dated July 28, 2005: Within 18 months after the effective date of this AD, do a one-time general visual inspection for chafing or signs of arcing of the wire bundle for the auxiliary hydraulic pump, and do all applicable corrective and other specified actions, in accordance with the Accomplishment Instructions of the service bulletin. Accomplish all applicable corrective actions before further flight after the inspection.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Installation of Additional Wiring Protection

(b) For airplanes in Configuration 4, as defined in Boeing Alert Service Bulletin MD80-29A070, Revision 1, dated July 28, 2005: Within 18 months after the effective date of this AD, install additional protective sleeving on the upper portion of the auxiliary hydraulic pump wire assembly in accordance with the procedures under Configuration 4 in the Accomplishment Instructions of the service bulletin.

Actions Accomplished Previously

(c) Actions accomplished before the effective date of this AD in accordance with the Accomplishment Instructions of Boeing Alert Service Bulletin MD80-29A070, dated August 3, 2004, are acceptable for compliance with paragraph (a) of this AD, except that the additional requirements of paragraph (b) of this AD must be done on airplanes in Configuration 4, as defined in Boeing Alert Service Bulletin MD80-29A070, Revision 1, dated July 28, 2005.

Alternative Methods of Compliance

(d)(1) In accordance with 14 CFR 39.19, the Manager, Los Angeles Aircraft Certification Office, FAA, is authorized to approve alternative methods of compliance for this AD.

(2) Before using any AMOC approved in accordance with § 39.19 on any airplane to which the AMOC applies, notify the appropriate principal inspector in the FAA Flight Standards Certificate Holding District Office.

Incorporation by Reference

(e) Unless otherwise specified in this AD, the actions must be done in accordance with Boeing Alert Service Bulletin MD80-29A070, Revision 1, dated July 28, 2005. This incorporation by reference was approved by the Director of the Federal Register in accordance with 5 U.S.C. 552(a) and 1 CFR part 51. To get copies of this service information, contact Boeing Commercial Airplanes, Long Beach Division, 3855 Lakewood Boulevard, Long Beach, California 90846, Attention: Data and Service Management, Dept. C1-L5A (D800-0024). To inspect copies of this service information, go to the FAA, Transport Airplane Directorate, 1601 Lind Avenue, SW., Renton, Washington; to the FAA, Los Angeles Aircraft Certification Office, 3960 Paramount Boulevard, Lakewood, California; or to the National Archives and Records Administration (NARA). For information on the availability of this material at the NARA, call (202) 741-6030, or go to http://www.archives.gov/federal_register/code_of_federal_regulations/ibr_locations.html.

Effective Date

(f) This amendment becomes effective on September 5, 2006.

Issued in Renton, Washington, on July 20, 2006.
Ali Bahrami,
Manager, Transport Airplane Directorate, Aircraft Certification Service.

[FR Doc. E6-12094 Filed 7-28-06; 8:45 am]

BILLING CODE 4910-13-P